DEPARTMENT OF HEALTH AND HUMAN SERVICES

Centers for Disease Control and Prevention

Fees for Sanitation Inspections of Cruise Ships

AGENCY: Centers for Disease Control and Prevention, U.S. Department of Health and Human Services.

ACTION: Notice.

SUMMARY: This notice announces fees for vessel sanitation inspections for fiscal year 2009 (October 1, 2008, through September 30, 2009).

DATES: Effective Date: October 1, 2008.

Contact Information: Chief Jaret Ames, Vessel Sanitation Program, National Center for Environmental Health, Centers for Disease Control and Prevention, 4770 Buford Highway, NE., Mailstop F-23, Atlanta, Georgia 30341-3724, Telephone 770-488-3139, E-mail jfa0@cdc.gov.

SUPPLEMENTARY INFORMATION:

Purpose and Background

The fee schedule for sanitation inspections of passenger cruise ships inspected under the Vessel Sanitation Program (VSP) was first published in the Federal Register on November 24, 1987 (52 FR 45019). The Centers for Disease Control and Prevention (CDC) began collecting fees on March 1, 1988. Since then, CDC has annually published the fee schedule. This notice announces fees that are effective October 1, 2008.

The following formula is used to determine the fees:

The average cost per inspection is multiplied by size and cost factors to determine the fee for vessels in each size category. The size and cost factors were established in the proposed fee schedule published in the Federal Register on July 17, 1987 (52 FR 27060). The fee schedule was twice revised and was published in the Federal Register on November 28, 1989 (54 FR 48942) and on November 21, 2005 (70 FR 70078). The revised size and cost factors are presented in Appendix A.

Fee

The fee schedule (Appendix A) will be effective October 1, 2008, through September 30, 2009. If travel expenses continue to increase, the fees may need adjusting before September 30, 2009, because travel constitutes a sizable portion of VSP's costs. If an adjustment is necessary, a notice will be published in the Federal Register 30 days before the effective date.

Applicability

The fees will apply to all passenger cruise vessels for which inspections are conducted as part of CDC's VSP.

Dated: November 19, 2008.
James D. Seligman,
Chief Information Officer, Centers for Disease Control and Prevention.

Appendix A
Vessel size | GRT ¹ | Approximate cost ($US) per GRT
Size/Cost Factor
Extra Small | <3,001 | 0.25
Small | 3,001-15,000 | 0.50
Medium | 15,001-30,000 | 1.00
Large | 30,001-60,000 | 1.50
Extra Large | 60,001-120,000 | 2.00
Mega * | >120,001 | 3.00
Vessel size | GRT ¹ | Fee ($U.S.)
Fee Schedule
Extra Small | <3,000 | 1,300
Small | 3,001-15,000 | 2,600
Medium | 15,001-30,000 | 5,200
Large | 30,001-60,000 | 7,800
Extra Large | 60,001-120,000 | 10,400
Mega* | >120,001 | 15,600
* New Vessel Size Category.
¹ Gross register tonnage in cubic feet, as shown in Lloyd's Register of Shipping.

Inspections and reinspections involve the same procedures, require the same amount of time, and are therefore charged at the same rates.

[FR Doc. E8-28153 Filed 11-25-08; 8:45 am]

BILLING CODE 4163-18-P